DEPARTMENT OF COMMERCE

International Trade Administration

[A-533-820; A-560-812; A-570-865; A-583-835; A-549-817; A-823-811]

Certain Hot-Rolled Carbon Steel Flat Products From India, Indonesia, the People's Republic of China, Taiwan, Thailand, and Ukraine: Final Results of Expedited Third Sunset Reviews of the Antidumping Duty Orders

AGENCY: Enforcement and Compliance, International Trade Administration, Department of Commerce.

DATES: Applicable June 10, 2019.

SUMMARY: As a result of these sunset reviews, the Department of Commerce (Commerce) finds that revocation of the antidumping duty orders on certain hot-rolled carbon steel flat products from India, Indonesia, the People's Republic of China (China), Taiwan, Thailand, and Ukraine would be likely to lead to continuation or recurrence of dumping. The magnitude of the dumping margins likely to prevail are indicated in the “Final Results of Sunset Review” section of this notice.

FOR FURTHER INFORMATION CONTACT: Chelsey Simonovich, AD/CVD Operations, Office VI, Enforcement and Compliance, U.S. Department of Commerce, 1401 Constitution Avenue NW, Washington, DC 20230; telephone (202) 482-1979.

SUPPLEMENTARY INFORMATION:

Background

In 2001, Commerce published in the Federal Register the AD Orders with respect to certain hot-rolled carbon steel flat products from India, Indonesia, China, Taiwan, Thailand, and Ukraine.¹ On December 5, 2006 and February 7, 2014, Commerce published notices of continuation of these AD Orders.² On February 5, 2019, Commerce published the notice of initiation of the third sunset reviews of the AD Orders on certain hot-rolled carbon steel flat products from India, Indonesia, China, Taiwan, Thailand, and Ukraine.³

¹ See Notice of Amended Final Antidumping Duty Determination of Sales at Less Than Fair Value and Antidumping Duty Order: Certain Hot-Rolled Carbon Steel Flat Products from India, 66 FR 60194 (December 3, 2001) (India Amended Final Determination and Order); see also Antidumping Duty Order: Certain Hot-Rolled Carbon Steel Flat Products From Indonesia, 66 FR 60192 (December 3, 2001); Notice of Antidumping Duty Order: Certain Hot-Rolled Carbon Steel Flat Products from the People's Republic of China, 66 FR 59561 (November 29, 2001); Notice of Antidumping Duty Order; Certain Hot-Rolled Carbon Steel Flat Products from Taiwan, 66 FR 59563 (November 29, 2001); Antidumping Duty Order: Certain Hot-Rolled Carbon Steel Flat Products from Thailand, 66 FR 59562 (November 29, 2001); and Antidumping Duty Order: Certain Hot-Rolled Carbon Steel Flat Products from Ukraine, 66 FR 59559 (November 29, 2001) (collectively, AD Orders).

² See Certain Hot-Rolled Carbon Steel Flat Products from Argentina, the People's Republic of China, India, Indonesia, Kazakhstan, Romania, South Africa, Taiwan, Thailand, and Ukraine; Final Results of Expedited Sunset Reviews of the Antidumping Duty Orders, 71 FR 70506 (December 5, 2006) (First Sunset Review); see also Certain Hot-Rolled Carbon Steel Flat Products from India, Indonesia, the People's Republic of China, Taiwan, Thailand, and Ukraine: Continuation of Antidumping and Countervailing Duty Orders, 79 FR 7425 (February 7, 2014) (Second Sunset Review).

³ See Initiation of Five-Year (Sunset) Reviews, 84 FR 1705 (February 5, 2019) (Initiation).

On March 7, 2019, Commerce received complete substantive responses to the notices of initiation from Nucor Corporation; AK Steel Corporation; ArcelorMittal USA LLC; United States Steel Corporation; California Steel Industries; SSAB Enterprises LLC; and Steel Dynamics, Inc. (collectively, the domestic interested parties) within the 30-day deadline specified in 19 CFR 351.218(d)(3)(i). The domestic interested parties claimed interested party status under section 771(9)(C) of the Act, as manufacturers, producers, or wholesalers of a domestic like product in the United States. Commerce received comments from the Government of Ukraine,⁴ but received no substantive responses from any other interested parties. As a result, Commerce conducted an expedited, i.e., 120-day, sunset review of these AD Orders pursuant to section 751(c)(3)(B) of the Act and 19 CFR 351.218(e)(1)(ii)(C)(2).

⁴ See Issues and Decision Memorandum: Final Results of Expedited Third Sunset Reviews of the Antidumping Duty Orders on Certain Hot-Rolled Carbon Steel Flat Products from India, Indonesia, the People's Republic of China, Taiwan, Thailand, and Ukraine (Issues and Decisions Memorandum), dated June 5, 2019 at 20. Commerce did not find the Government of Ukraine's comments to be an adequate substantive response.

Scope of the Orders

The merchandise subject to the AD Orders is certain hot-rolled carbon steel flat products. For a complete description of the products covered, see the Issues and Decision Memorandum.

Analysis of Comments Received

All issues raised in these reviews, including the likelihood of continuation or recurrence of dumping in the event of revocation, and the magnitude of dumping margins likely to prevail if the orders were revoked, are addressed in the accompanying Issues and Decision Memorandum dated concurrently with, and hereby adopted by, this notice. A list of the topics discussed in the Issues and Decision Memorandum is attached to this notice as an Appendix. The Issues and Decision Memorandum is a public document, which is on file electronically via Enforcement and Compliance's Antidumping and Countervailing Duty Centralized Electronic Service System (ACCESS). ACCESS is available to registered users at http://access.trade.gov and is available to all parties in the Central Records Unit in Room B8024 of the main Commerce building. In addition, a complete version of the Issues and Decision Memorandum can be accessed directly on the internet at http://trade.gov/enforcement/. The signed and electronic versions of the Decision Memorandum are identical in content.

Final Results of Sunset Review

Pursuant to sections 752(c)(1) and (3) of the Act, we determine that revocation of the antidumping duty orders on certain hot-rolled carbon steel flat products from India, Indonesia, China, Taiwan, Thailand, and Ukraine would be likely to lead to continuation or recurrence of dumping. We determine that the weighted-average dumping margins likely to prevail are up to the following percentages:

Country | Weighted- average margin (percent)
India | 44.40
Indonesia | 47.86
China | 90.83
Taiwan | 29.14
Thailand | 20.30
Ukraine | 90.33

Notification to Interested Parties

This notice serves as the only reminder to parties subject to the administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

We are issuing and publishing these results and notice in accordance with sections 751(c), 752(c), and 777(i)(1) of the Act.

Dated: June 5, 2019.
Jeffrey I. Kessler,
Assistant Secretary for Enforcement and Compliance.

Appendix I

List of Topics Discussed in the Issues and Decision Memorandum

I. Summary

II. Background

III. Scopes of the Orders

IV. History of the Orders

V. Legal Framework

VI. Discussion of the Issues

1. The Adequacy of the Government of Ukraine's Response

2. Likelihood of Continuation or Recurrence of Dumping

3. Magnitude of the Dumping Margins Likely to Prevail

VII. Final Results of Review

VIII. Recommendation

[FR Doc. 2019-12147 Filed 6-7-19; 8:45 am]

BILLING CODE 3510-DS-P